DEPARTMENT OF ENERGY

Federal Energy Regulatory Commission

Combined Notice of Filings #2

Take notice that the Commission received the following electric rate filings:

Docket Numbers: ER18-1555-000.

Applicants: Midcontinent Independent System Operator, Inc.

Description: § 205(d) Rate Filing: 2018-05-09_SA 1503 NSP-Mankato 4th Rev. GIA (G261/J299) to be effective 4/25/2018.

Filed Date: 5/9/18.

Accession Number: 20180509-5075.

Comments Due: 5 p.m. ET 5/30/18.

Docket Numbers: ER18-1556-000.

Applicants: Southern California Edison Company.

Description: § 205(d) Rate Filing: GIA and DSA California State University Channel Islands Site Authority CSUCI to be effective 4/12/2018.

Filed Date: 5/9/18.

Accession Number: 20180509-5084.

Comments Due: 5 p.m. ET 5/30/18.

Docket Numbers: ER18-1557-000.

Applicants: Tampa Electric Company.

Description: Compliance filing: OATT Order No. 842 Compliance Filing to be effective 5/15/2018.

Filed Date: 5/9/18.

Accession Number: 20180509-5126.

Comments Due: 5 p.m. ET 5/30/18.

Docket Numbers: ER18-1558-000.

Applicants: Deseret Generation & Transmission Co-operative, Inc.

Description: Compliance filing: OATT Order No. 842 Compliance to be effective 5/15/2018.

Filed Date: 5/9/18.

Accession Number: 20180509-5148.

Comments Due: 5 p.m. ET 5/30/18.

Docket Numbers: ER18-1559-000.

Applicants: Alabama Power Company.

Description: Compliance filing: Amendment of Southern's Tariff Vol. 4 in Compliance with Docket ER10-2881, et al to be effective 5/4/2018.

Filed Date: 5/9/18.

Accession Number: 20180509-5150.

Comments Due: 5 p.m. ET 5/30/18.

Docket Numbers: ER18-1561-000.

Applicants: CSOLAR IV South, LLC.

Description: § 205(d) Rate Filing: Amendments to Co-Tenancy and Shared Use Agreement to be effective 5/10/2018.

Filed Date: 5/9/18.

Accession Number: 20180509-5201.

Comments Due: 5 p.m. ET 5/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2018.
Nathaniel J. Davis, Sr.,
Deputy Secretary.

[FR Doc. 2018-10289 Filed 5-14-18; 8:45 am]

BILLING CODE 6717-01-P